DEPARTMENT OF JUSTICE

Notice of Lodging of Consent Decree Under the Clean Air Act

Notice is hereby given that on October 19, 2009, a proposed Consent Decree in United States v. BASF Corporation, Civil Action No. 1:09 CV 0914, was lodged with the United States District Court for the Eastern District of Texas.

In this action, the United States sought injunctive relief and civil penalties for violations of the industrial refrigerant repair, record-keeping, and reporting regulations at 40 CFR 82.156 (Recycling and Emission Reduction) promulgated by the Environmental Protection Agency (“EPA”) under Subchapter VI of the Clean Air Act (Stratospheric Ozone Protection), 42 U.S.C. 7671-7671q, at five of BASF's facilities in the United States. The five facilities are located in Livonia, Michigan; South Brunswick and Washington, New Jersey; Greenville, Ohio; and Beaumont, Texas. In the proposed Consent Decree, BASF agrees to (1) retrofit or retire three of its industrial process refrigeration units at its Beaumont, Texas facility and (2) pay a $384,200 penalty to the United States.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. BASF Corporation, D.J. Ref. 90-5-2-1-08255.

The Consent Decree may be examined at the Office of the United States Attorney, 350 Magnolia Avenue, Beaumont, TX 77701, and at U.S. EPA Region 6, 1445 Ross Avenue, Dallas TX 75202. During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.25 (25 cents per page reproduction cost) payable to the U.S. Treasury or, if by e-mail or fax, forward a check in that amount to the Consent Decree Library at the stated address.

Maureen Katz,
Assistant Chief, Environmental Enforcement Section, Environment and Natural Resources Division.

[FR Doc. E9-25494 Filed 10-22-09; 8:45 am]

BILLING CODE 4410-15-P